DEPARTMENT OF AGRICULTURE

Animal and Plant Health Inspection Service

[Docket No. APHIS-2025-0705]

Notice of Request for Revision to and Extension of Approval of an Information Collection; Animal Disease Traceability

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with animal disease traceability.

DATES: We will consider all comments that we receive on or before March 9, 2026.

ADDRESSES: You may submit comments by either of the following methods:

• Federal eRulemaking Portal: Go to http://www.regulations.gov. Enter APHIS-2025-0705 in the Search field. Select the Documents tab, then select the Comment button in the list of documents.

• Postal Mail/Commercial Delivery: Send your comment to Docket No. APHIS-2025-0705, Regulatory Analysis and Development, PPD, APHIS, 5601 Sunnyside Ave., #AP760, Beltsville, MD 20705.

Supporting documents and any comments we receive on this docket may be viewed at http://www.regulations.gov or in our reading room, which is in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on animal disease traceability, contact Dr. Wendy Lehman, Veterinary Medical Officer, National Animal Disease Traceability and Veterinary Accreditation Center, Strategy and Policy, VS, APHIS, 5601 Sunnyside Ave., Beltsville, MD 20705; (937) 999-7874. For more information on the information collection reporting process, contact Ms. Sheniqua Harris, APHIS' Paperwork Reduction Act Coordinator, at (301) 851-2528; or email: APHIS.PRA@usda.gov.

SUPPLEMENTARY INFORMATION:

Title: Animal Disease Traceability.

OMB Control Number: 0579-0327.

Type of Request: Revision to and extension of approval of an information collection.

Abstract: Under the Animal Health Protection Act (7 U.S.C. 8301 et seq.), the Animal and Plant Health Inspection Service (APHIS) of the U.S. Department of Agriculture is authorized, among other things, to prevent the introduction into and the dissemination within the United States of any pest or disease of livestock or poultry.

Within APHIS, Veterinary Services (VS) safeguards U.S. animal health through a variety of activities, including disease control. One important part of disease control is animal disease traceability. Animal disease traceability provides the ability to document the movement history of an animal throughout its life. Knowing where diseased and at-risk animals have been and are located, as well as when they have been there, is indispensable during an emergency response and important for ongoing disease programs.

Epidemiologists use this information to determine the potential spread of a disease. In fact, having the ability to plot locations within a radius of an infected premises helps to determine the potential magnitude of a contagious disease and the resources needed to contain it. Furthermore, as diseases are controlled or eradicated, it is important to document areas, States, or regions of the country that are free from disease. Traceability helps APHIS determine those disease-free zones, thus enhancing the marketability of U.S. livestock.

The regulations for animal disease traceability are located in 9 CFR part 86. Under the regulations, unless specifically exempted, livestock moved interstate must be officially identified and accompanied by an interstate certificate of veterinary inspection or other documentation. The regulations specify approved forms of official identification for each species but allow livestock to be moved between any two States or Tribes with another form of identification as agreed upon by animal health officials in the two jurisdictions. This identification requirement improves APHIS' ability to trace livestock if a disease is detected. Development and implementation of the animal disease traceability framework continues to be a partnership involving APHIS, States, Tribes, and industry. States and Tribes enter into cooperative agreements with APHIS to implement their traceability activities.

We are asking the Office of Management and Budget (OMB) to approve these information collection activities, as described, for an additional 3 years. APHIS has amended this information collection due to the following:

• There is a decrease in the number of Respondents reporting, the number of Responses, and Total Burden Hours reported for the collection.

• APHIS removed the use of State figures for Approval of Official ID Devices.

• APHIS removed the use and recordkeeping of the VS Form 1-64 for State respondents.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.566 hours per response.

Respondents: State, Tribal, and territorial animal health officials; accredited veterinarians; breed and registry associations; producers; livestock market operators; and harvest facility employees.

Estimated annual number of respondents: 80,302.

Estimated annual number of responses per respondent: 12.

Estimated annual number of responses: 947,082.

Estimated total annual burden on respondents: 536,091 hours. (Due to averaging, the total annual burden hours may not equal the product of the annual number of responses multiplied by the reporting burden per response.)

All responses to this notice will be summarized and included in the request for OMB approval. All comments will also become a matter of public record.

Done in Washington, DC, this 5th day of January 2026.
Michael Watson,
Administrator, Animal and Plant Health Inspection Service.

[FR Doc. 2026-00097 Filed 1-6-26; 8:45 am]

BILLING CODE 3410-34-P